DEPARTMENT OF COMMERCE

International Trade Administration

(A- 570-881)

Malleable Cast Iron Pipe Fittings from the People's Republic of China: Notice of Rescission of the 2007-2008 Administrative Review of the Antidumping Duty Order

AGENCY: Import Administration, International Trade Administration, Department of Commerce.

EFFECTIVE DATE: March 11, 2009.

FOR FURTHER INFORMATION CONTACT: Brendan Quinn, AD/CVD Operations, Office 8, Import Administration, International Trade Administration, U.S. Department of Commerce, 14th Street and Constitution Avenue, NW, Washington, DC 20230; telephone: (202) 482-5848.

Background

On December 1, 2008, the Department of Commerce (“the Department”) published a notice of opportunity to request an administrative review of the antidumping duty order on malleable cast iron pipe fittings from the People's Republic of China (“PRC”). See Antidumping or Countervailing Duty Order, Finding, or Suspended Investigation; Opportunity to Request Administrative Review, 73 FR 72764 (December 1, 2008). On December 30, 2008, LDR Industries (LDR) and Beijing Sai Lin Ke Hardware Co., Ltd. (SLK) (collectively, “LDR/SLK”) requested that the Department conduct an administrative review of SLK's exports to the United States for the period December 1, 2007, through November 30, 2008. On December 31, 2008, Mueller Comercial de México, S. De R.L. de C.V. (“Mueller”) and Southland Pipe Nipples Company, Inc. (“Southland”) requested that the Department conduct an administrative review of Mueller's exports to the United States for the period December 1, 2007, through November 30, 2008. Pursuant to these requests, the Department published a notice of the initiation of the administrative review of the antidumping duty order on malleable cast iron pipe fittings from the PRC. See Initiation of Antidumping and Countervailing Duty Administrative Reviews and Request for Revocation in Part, 74 FR 5821 (February 2, 2009).

Rescission of Review

Pursuant to 19 CFR 351.213(d)(1), the Department will rescind an administrative review, in whole or in part, if the parties that requested a review withdraw the requests within 90 days of the date of publication of the notice of initiation. On February 11, 2009, LDR/SLK timely withdrew its request for a review of SLK, and no other interested party requested a review of this company. On February 12, 2009, Mueller and Southland timely withdrew their request for a review of Mueller, and no other interested party requested a review of this company. Therefore, the Department is rescinding this administrative review of the antidumping duty order on malleable cast iron pipe fittings from the PRC covering the period December 1, 2007, through November 30, 2008, in accordance with 19 CFR 351.213(d)(1).

Assessment

The Department will instruct U.S. Customs and Border Protection (“CBP”) to assess antidumping duties on all appropriate entries. Antidumping duties shall be assessed at rates equal to the cash deposit of estimated antidumping duties required at the time of entry, or withdrawal from warehouse, for consumption, in accordance with 19 CFR 351.212(c)(1)(i). The Department intends to issue appropriate assessment instructions directly to CBP 15 days after the publication of this notice in the Federal Register.

Notification to Interested Parties

This notice serves as a final reminder to importers of their responsibility under 19 CFR 351.402(f)(2) to file a certificate regarding the reimbursement of antidumping duties prior to liquidation of the relevant entries during this review period. Pursuant to 19 CFR 351.402(f)(3), failure to comply with this requirement could result in the Secretary's presumption that reimbursement of antidumping duties occurred and the subsequent assessment of doubled antidumping duties.

This notice also serves as a reminder to parties subject to administrative protective order (“APO”) of their responsibility concerning the disposition of proprietary information disclosed under APO, in accordance with 19 CFR 351.305 and as explained in the APO itself. Timely written notification of the return/destruction of APO materials or conversion to judicial protective order is hereby requested. Failure to comply with the regulations and the terms of an APO is a sanctionable violation.

This notice is in accordance with section 777(i)(1) of the Tariff Act of 1930, as amended, and 19 CFR 351.213(d)(4).

Dated: March 3, 2009.
John M. Andersen,
Acting Deputy Assistant Secretary for Antidumping and Countervailing Duty Operations.

[FR Doc. E9-5119 Filed 3-10-09; 8:45 am]

BILLING CODE 3510-DS-S